ENVIRONMENTAL PROTECTION AGENCY

[FRL-7552-5]

Proposed Administrative Past Cost Settlement Under Section 122(h)(1) of the Comprehensive Environmental Response, Compensation and Liability Act; In the Matter of Ohio Drum Superfund Site, Cleveland, OH

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Ohio Drum Superfund Site (“the Site”) in Cleveland, Ohio, with five parties: DeSantis Paint Manufacturing Co., City Barrel & Drum Company, Elmer Freiberg, David Tvert, and Cuyahoga Chemical Company (“the settling parties”). The settlement requires DeSantis Paint Manufacturing Co. to pay $500.00 to the Hazardous Substance Superfund. City Barrel & Drum Company will pay $5,000.00 to the Hazardous Substance Superfund. Elmer Freiberg will pay $500.00 to the Hazardous Substance Superfund. David Tvert will pay $10,000.00 to the Hazardous Substance Superfund. Cuyahoga Chemical Company will pay $100.00 to the Hazardous Substance Superfund.

Under the terms of the settlement, the settling parties agree to pay their respective settlement amounts. In exchange for their payments, the United States covenants not to sue or take administrative action pursuant to section 107(a) of CERCLA, 42 U.S.C. 9607(a), to recover costs that the United States paid in connection with the Site through February 1, 2003. In addition, the settling parties are entitled to protection from contribution actions or claims as provided by sections 113(f) and 122(h)(4) of CERCLA, 42 U.S.C. 9613(f) and 9622(h)(4), for response costs incurred by any person at the Site.

For thirty (30) days after the date of publication of this notice, the Agency will receive written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois 60604, and at the Cleveland Public Library, Cleveland, Ohio.

DATES: Comments must be submitted on or before October 6, 2003.

ADDRESSES: The proposed settlement is available for public inspection at EPA's Record Center, 7th floor, 77 W. Jackson Blvd., Chicago, Illinois 60604. A copy of the proposed settlement may be obtained from Peter Felitti, Associate Regional Counsel, U.S. EPA, Mail Code C-14J, 77 W. Jackson Blvd., Chicago, Illinois 60604, telephone (312) 886-5114. Comments should reference the Ohio Drum Superfund Site, Cleveland, Ohio, and EPA Docket No. V-W-03-C-749, and should be addressed to Peter Felitti, Associate Regional Counsel, U.S. EPA, Mail Code C-14J, 77 W. Jackson Blvd., Chicago, Illinois 60604.

FOR FURTHER INFORMATION CONTACT: Peter Felitti, Associate Regional Counsel, U.S. EPA, Mail Code C-14J, 77 W. Jackson Blvd., Chicago, Illinois 60604, telephone (312) 886-5114.

Authority: The Comprehensive Environmental Response, Compensation, and Liability Act of 1980, as amended, 42 U.S.C. 9601, et seq.

Dated: August 5, 2003.
William E. Muno,
Director, Superfund Division.

[FR Doc. 03-22541 Filed 9-3-03; 8:45 am]

BILLING CODE 6560-50-M